DEPARTMENT OF TRANSPORTATION

Federal Aviation Administration

14 CFR Part 39

[Docket No. FAA-2024-2129; Project Identifier MCAI-2024-00066-T; Amendment 39-22889; AD 2024-23-10]

RIN 2120-AA64

Airworthiness Directives; ATR—GIE Avions de Transport Régional Airplanes

AGENCY: Federal Aviation Administration (FAA), DOT.

ACTION: Final rule.

SUMMARY: The FAA is adopting a new airworthiness directive (AD) for certain ATR—GIE Avions de Transport Régional Model ATR42 and ATR72 airplanes. This AD was prompted by a report that for airplanes converted from passenger to cargo configuration using certain supplemental type certificates, no height limitation for the cargo, when loaded in the cargo compartment, is defined, and that as a consequence, cargo might be loaded up to the ceiling of the cargo compartment. This AD requires modification of the cargo compartment and implementation of updated cargo loading procedures. The FAA is issuing this AD to address the unsafe condition on these products.

DATES: This AD is effective January 13, 2025.

The Director of the Federal Register approved the incorporation by reference of certain publications listed in this AD as of January 13, 2025.

ADDRESSES:

AD Docket: You may examine the AD docket at regulations.gov under Docket No. FAA-2024-2129; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For Sabena Technics material identified in this AD, contact Sabena Technics BGC, Le Galilée, 9 Bd Henri Ziegler, 31700 Blagnac France; telephone 33 (0)1 56 54 42 30; email airworthiness.office@sabenatechnics.com.

• You may view this material at the FAA, Airworthiness Products Section, Operational Safety Branch, 2200 South 216th St., Des Moines, WA. For information on the availability of this material at the FAA, call 206-231-3195. It is also available at regulations.gov under Docket No. FAA-2024-2129.

FOR FURTHER INFORMATION CONTACT: Shahram Daneshmandi, Aviation Safety Engineer, FAA, 1600 Stewart Avenue, Suite 410, Westbury, NY 11590; telephone 206-231-3220; email shahram.daneshmandi@faa.gov.

SUPPLEMENTARY INFORMATION:

Background

The FAA issued a notice of proposed rulemaking (NPRM) to amend 14 CFR part 39 by adding an AD that would apply to certain ATR—GIE Avions de Transport Régional Model ATR42 and ATR72 airplanes. The NPRM published in the Federal Register on August 22, 2024 (89 FR 67908). The NPRM was prompted by AD 2024-0025, dated January 24, 2024, issued by the European Union Aviation Safety Agency (EASA), which is the Technical Agent for the Member States of the European Union (referred to after this as the MCAI). The MCAI states that it was identified that for airplanes converted from passenger to cargo configuration using EASA Supplemental Type Certificate (STC) 10069551, Revision 1 (EASA STC 10069551, Revision 0, corresponds to FAA STC ST04602NY), or the previous EASA STC 2004-2872 (which corresponds to FAA STC S116-004NM, Revision 1), no height limitation for the cargo, when loaded in the cargo compartment, is defined. Consequently, operators of such airplanes may load the cargo up to the ceiling of the cargo compartment and, therefore, potentially affect the proper functioning of the smoke detectors. This condition, if not corrected, could lead to smoke not being detected in time, possibly resulting in an uncontrolled fire.

In the NPRM, the FAA proposed to require modification of the cargo compartment and implementation of updated cargo loading procedures. The FAA is issuing this AD to address the unsafe condition on these products.

You may examine the MCAI in the AD docket at regulations.gov under Docket No. FAA-2024-2129.

Discussion of Final Airworthiness Directive

Comments

The FAA received a comment from Air Line Pilots Association, International (ALPA), who supported the NPRM without change.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, this AD is adopted as proposed in the NPRM. None of the changes will increase the economic burden on any operator.

Material Incorporated by Reference Under 1 CFR Part 51

The FAA reviewed Sabena Technics Airworthiness Technical Instructions 0110-09-A-ATI-F01-R00, and 0110-11-A-ATI-F01-R00, both dated September 19, 2023. This material describes procedures for modifying the cargo compartment (installing a label and tape to indicate maximum cargo height). These documents are distinct since they apply to different airplane models.

The FAA also reviewed Sabena Technics Weight & Balance Manual Supplement 0110-09-A-2305-R06, Revision 06, dated September 15, 2023; and Sabena Technics Weight & Balance Manual Supplement 0110-11-A-2305-R07, Revision 07, dated September 15, 2023. The maximum cargo height in the cargo compartment is described in Section 2.9., “Cargo Compartment—Loading Limitation,” of Sabena Technics Weight & Balance Manual Supplement 0110-09-A-2305-R06, Revision 06, dated September 15, 2023; and section 2.11., “Cargo Compartment-Loading Limitation,” of Sabena Technics Weight & Balance Manual Supplement 0110-11-A-2305-R07, Revision 07, dated September 15, 2023. These documents are distinct since they apply to different airplane models.

This material is reasonably available because the interested parties have access to it through their normal course of business or by the means identified in the ADDRESSES section.

Costs of Compliance

The FAA estimates that this AD affects 2 airplanes of U.S. registry. The FAA estimates the following costs to comply with this AD:

Estimated Costs for Required Actions
Labor cost | Parts cost | Cost per product | Cost on U.S. operators
8 work-hours × $85 per hour = $680 | $100 | $780 | $1,560

The FAA has included all known costs in its cost estimate. According to the manufacturer, however, some or all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-23-10 ATR—GIE Avions de Transport Régional: Amendment 39-22889; Docket No. FAA-2024-2129; Project Identifier MCAI-2024-00066-T.

(a) Effective Date

This airworthiness directive (AD) is effective January 13, 2025.

(b) Affected ADs

None.

(c) Applicability

This AD applies to ATR—GIE Avions de Transport Régional airplanes identified in paragraphs (c)(1) and (2) of this AD, certificated in any category, modified in accordance with FAA Supplemental Type Certificate (STC) ST116-004NM or STC ST04602NY.

(1) Model ATR42-200, -300, -320, and -500 airplanes.

(2) Model ATR72-101, -102, -201, -202, -211, -212, and -212A airplanes.

(d) Subject

Air Transport Association (ATA) of America Code 11, Placards and Marking.

(e) Unsafe Condition

This AD was prompted by a report that for airplanes converted from passenger to cargo configuration using certain supplemental type certificates, no height limitation for the cargo, when loaded in the cargo compartment, is defined, and that as a consequence, cargo may be loaded up to the ceiling of the cargo compartment. The FAA is issuing this AD to address cargo being loaded up to the ceiling of the cargo compartment, which could affect the proper functioning of the smoke detectors. This condition, if not corrected, could lead to smoke not being detected in time, possibly resulting in an uncontrolled fire.

(f) Compliance

Comply with this AD within the compliance times specified, unless already done.

(g) Modification of Cargo Compartment

Within 6 months after the effective date of this AD, modify the cargo compartment in accordance with the Accomplishment Instructions of Sabena Technics Airworthiness Technical Instructions 0110-09-A-ATI-F01-R00, dated September 19, 2023 (for Model ATR42 airplanes); or Sabena Technics Airworthiness Technical Instructions 0110-11-A-ATI-F01-R00, dated September 19, 2023 (for Model ATR72 airplanes).

(h) Revision of Weight and Balance Manual

Prior to or concurrently with accomplishing the actions required by paragraph (g) of this AD, implement the cargo loading procedures specified in Section 2.9., “Cargo Compartment—Loading Limitation,” of Sabena Technics Weight & Balance Manual Supplement 0110-09-A-2305-R06, Revision 06, dated September 15, 2023 (for Model ATR42 airplanes); or Section 2.11., “Cargo Compartment-Loading Limitation,” of Sabena Technics Weight & Balance Manual Supplement 0110-11-A-2305-R07, Revision 07, dated September 15, 2023 (for Model ATR72 airplanes).

(i) No Reporting Requirement

Although Sabena Technics Airworthiness Technical Instructions 0110-09-A-ATI-F01-R00, and 0110-11-A-ATI-F01-R00, both dated September 19, 2023, specify to submit certain information to the manufacturer, this AD does not include that requirement.

(j) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (k) of this AD. Information may be emailed to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or the European Union Aviation Safety Agency (EASA); or Sabena Technic BGC's EASA Design Organization Approval (DOA). If approved by the DOA, the approval must include the DOA-authorized signature.

(k) Additional Information

For more information about this AD, contact Shahram Daneshmandi, Aviation Safety Engineer, FAA, 1600 Stewart Avenue, Suite 410, Westbury, NY 11590; telephone 206-231-3220; email shahram.daneshmandi@faa.gov.

(l) Material Incorporated by Reference

(1) The Director of the Federal Register approved the incorporation by reference (IBR) of the material listed in this paragraph under 5 U.S.C. 552(a) and 1 CFR part 51.

(2) You must use this material as applicable to do the actions required by this AD, unless this AD specifies otherwise.

(i) Sabena Technics Airworthiness Technical Instructions 0110-09-A-ATI-F01-R00, dated September 19, 2023.

(ii) Sabena Technics Airworthiness Technical Instructions 0110-11-A-ATI-F01-R00, dated September 19, 2023.

(iii) Sabena Technics Weight & Balance Manual Supplement 0110-09-A-2305-R06, Revision 06, dated September 15, 2023. This document has the revision level and date on page 2; no other page of the document has this information.

(iv) Sabena Technics Weight & Balance Manual Supplement 0110-11-A-2305-R07, Revision 07, dated September 15, 2023. This document has the revision level and date on page 2; no other page of the document has this information.

(3) For Sabena Technics material identified in this AD, contact Sabena Technics BGC, Le Galilée, 9 Bd Henri Ziegler, 31700 Blagnac France; telephone 33 (0)1 56 54 42 30; email airworthiness.office@sabenatechnics.com.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on November 21, 2024.
Victor Wicklund,
Deputy Director, Compliance & Airworthiness Division, Aircraft Certification Service.

[FR Doc. 2024-28789 Filed 12-6-24; 8:45 am]

BILLING CODE 4910-13-P